DEPARTMENT OF LABOR

Employment and Training Administration

[TA-W-54,650]

Wright Express LLC, a Subsidiary of Cendant Corporation Quality Assurance Department, South Portland, ME; Dismissal of Application for Reconsideration

Pursuant to 29 CFR 90.18(C) an application for administrative reconsideration was filed with the Director of the Division of Trade Adjustment Assistance for workers at Wright Express LLC., a subsidiary of Cendant Corporation, Quality Assurance Department, South Portland, Maine. The application contained no new substantial information which would bear importantly on the Department's determination. Therefore, dismissal of the application was issued.

TA-W-54,650; Wright Express LLC a subsidiary of Cendant Corporation Quality Assurance Department South Portland, Maine (July 8, 2004)

Signed at Washington, DC this 9th day of July 2004.
Timothy Sullivan,
Director, Division of Trade Adjustment Assistance.

[FR Doc. 04-16298 Filed 7-16-04; 8:45 am]

BILLING CODE 4510-30-P